FEDERAL COMMUNICATIONS COMMISSION

Notice of Public Information Collection(s) Being Reviewed by the Federal Communications Commission

April 25, 2003.

SUMMARY: The Federal Communications Commission, as part of its continuing effort to reduce paperwork burden invites the general public and other Federal agencies to take this opportunity to comment on the following information collection(s), as required by the Paperwork Reduction Act of 1995, Pub. L. 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before June 12, 2003. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., DC 20554 or via the Internet to Judith-B.Herman@fcc.gov.

FOR FURTHER INFORMATION CONTACT: For additional information or copies of the PRA information collection(s), contact Judith B. Herman at 202-418-0214 or via the Internet at Judith-B.Herman@fcc.gov.

SUPPLEMENTARY INFORMATION: OMB Control No.: 3060-0804.

Title: Universal Service—Health Care Providers Universal Service Program.

Form Nos.: FCC Forms 465, 466, 466-A, and 467.

Type of Review: Revision of a currently approved collection.

Respondents: Business or other for-profit, not-for-profit institutions.

Number of Respondents: 4,804 respondents; 5,605 responses.

Estimated Time Per Response: 1-2 hours.

Frequency of Response: On occasion reporting requirement, third party disclosure requirement.

Total Annual Burden: 8,805 hours.

Total Annual Cost: N/A.

Needs and Uses: In an effort to streamline the application process the reduce redundancy, the Commission is revising this information collection to merge the FCC Form 468 with the FCC Form 466. This will reduce the application burden for applicants to the rural health care universal service support mechanism, thereby eliminating the requirement for service providers to complete the FCC Form 468. The principal information previously obtained from the FCC Form 468 was the rural rate for telecommunications services for which applicants seek support. The Commission has determined that this can be obtained from existing information that applicants otherwise have in their possession (telephone bills, service ordering confirmation, or bid submitted by service provider) and provided directly on FCC Form 466. To implement this revised FCC Form 466 by July 1, 2003, we are requesting OMB approval by June 1, 2003.

Federal Communications Commission.
William F. Caton,
Deputy Secretary.

[FR Doc. 03-11850 Filed 5-12-03; 8:45 am]

BILLING CODE 6712-01-P